DEPARTMENT OF ENERGY

Federal Energy Regulatory Commission

Combined Notice of Filings

Take notice that the Commission has received the following Natural Gas Pipeline Rate and Refund Report filings:

Filings Instituting Proceedings

Docket Numbers: RP19-318-000.

Applicants: Southern Natural Gas Company, L.L.C.

Description: § 4(d) Rate Filing: SCRM Filing Nov 2018 to be effective 1/1/2019.

Filed Date: 11/28/18.

Accession Number: 20181128-5018.

Comments Due: 5 p.m. ET 12/10/18.

Docket Numbers: RP19-319-000.

Applicants: Cameron Interstate Pipeline, LLC.

Description: Compliance filing Cameron Interstate Pipeline Annual Adjustment of Fuel Retainage Percentage to be effective 1/1/2019.

Filed Date: 11/28/18.

Accession Number: 20181128-5080.

Comments Due: 5 p.m. ET 12/10/18.

Docket Numbers: RP19-320-000.

Applicants: Algonquin Gas Transmission, LLC.

Description: § 4(d) Rate Filing: Negotiated Rate—Boston Gas 510807 release to SFE Energy 798234 to be effective 12/1/2018.

Filed Date: 11/28/18.

Accession Number: 20181128-5081.

Comments Due: 5 p.m. ET 12/10/18.

Docket Numbers: RP19-321-000.

Applicants: Algonquin Gas Transmission, LLC.

Description: § 4(d) Rate Filing: Negotiated Rate—Boston Gas 510798 releases eff 12-1-18 to be effective 12/1/2018.

Filed Date: 11/28/18.

Accession Number: 20181128-5098.

Comments Due: 5 p.m. ET 12/10/18.

Docket Numbers: RP19-322-000.

Applicants: Southeast Supply Header, LLC.

Description: § 4(d) Rate Filing: Termination of Contract 840005 to be effective 1/1/2019.

Filed Date: 11/28/18.

Accession Number: 20181128-5112.

Comments Due: 5 p.m. ET 12/10/18.

Docket Numbers: RP19-323-000.

Applicants: El Paso Natural Gas Company, L.L.C.

Description: § 4(d) Rate Filing: Non-Conforming Negotiated Rate Agreement Update (SoCal Redes Dec18) to be effective 12/1/2018.

Filed Date: 11/28/18.

Accession Number: 20181128-5124.

Comments Due: 5 p.m. ET 12/10/18.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 29, 2018.
Nathaniel J. Davis, Sr.,
Deputy Secretary.

[FR Doc. 2018-26488 Filed 12-4-18; 8:45 am]

BILLING CODE 6717-01-P